DEPARTMENT OF AGRICULTURE

Commodity Credit Corporation

7 CFR Part 1487

RIN 0551-AA71

Technical Assistance for Specialty Crops

AGENCY: Foreign Agricultural Service (FAS) and Commodity Credit Corporation (CCC), USDA.

ACTION: Final rule.

SUMMARY: This final rule amends an existing provision in the regulations for the Technical Assistance for Specialty Crops Program (TASC). Section 3205 of the Agricultural Act of 2014 enacted on February 7, 2014, amended the existing TASC statute by striking “related barriers to trade” and inserting “technical barriers to trade”. This rule makes the corresponding change to the TASC regulations.

DATE: Effective June 5, 2014.

FOR FURTHER INFORMATION CONTACT: Mark Slupek at (202) 720-4327, fax at (202) 720-9361, or by email at: podadmin@fas.usda.gov.

SUPPLEMENTARY INFORMATION:

Executive Order 12866

This rule is issued in conformance with Executive Order 12866. It has been determined to be not significant for the purposes of Executive Order 12866 and has not been reviewed by the Office of Management and Budget (OMB). A cost-benefit assessment of this rule was not completed.

Executive Order 12988

This rule has been reviewed in accordance with Executive Order 12988. This rule does not preempt State or local laws, regulations, or policies unless they present an irreconcilable conflict with this rule. This rule would not be retroactive.

Executive Order 12372

This program is not subject to Executive Order 12372, which requires intergovernmental consultation with State and local officials. See 7 CFR part 3015, subpart V, and the related notice published at 48 FR 29115 (June 24, 1983).

Executive Order 13175

This rule does not have tribal implications as specified by Executive Order 13175 (65 FR 67249, November 9, 2000) that will preempt Tribal law.

Executive Order 13132

This rule does not have any substantial direct effect on States, on the relationship between the Federal government and the States, or on the distribution of power and responsibilities among the various levels of government, nor does this rule impose substantial direct compliance costs on State and local governments. Therefore, consultation with the States was not required.

Regulatory Flexibility Act

The Regulatory Flexibility Act does not apply to this rule because CCC is not required by 5 U.S.C. 553 or any other law to publish a notice of proposed rulemaking with respect to the subject matter of this rule.

Environmental Assessment

CCC has determined that this rule does not constitute a major State or Federal action that would significantly affect the human or natural environment, consistent with the regulations implementing the National Environmental Policy Act (NEPA), 40 CFR parts 1500-1508. Therefore, no environmental assessment or environmental impact statement will be prepared.

Unfunded Mandates

Although CCC is publishing this as a final rule, Title II of the Unfunded Mandates Reform Act of 1995 (UMRA) does not apply to this rule because this rule contains no unfunded mandates as defined in section 202 of UMRA. Nor does this rule potentially affect small governments or contain significant Federal intergovernmental mandates.

Paperwork Reduction Act of 1995

In accordance with the Paperwork Reduction Act of 1995, CCC has previously received approval from OMB with respect to the information collection required to support this program. The information collection is described below:

Title: Technical Assistance for Specialty Crops.

OMB Control Number: 0551-0038.

E-Government Act Compliance

CCC is committed to complying with the E-Government Act to promote the use of the Internet and other information technologies to provide increased opportunities for citizen access to Government information and services and for other purposes. The forms, regulations, and other information collection activities required to be utilized by a person subject to this rule are available at http://www.fas.usda.gov.

Background

This final rule amends the regulations at 7 CFR part 1487 applicable to the TASC program. The Farm Security and Rural Investment Act of 2002, which was reauthorized by the Food, Conservation, and Energy Act of 2008, directed CCC to establish a program to provide mandatory funding to assist U.S. organizations to undertake projects that address sanitary, phytosanitary, and related barriers that prohibit or threaten the export of U.S. specialty crops. The Foreign Agricultural Service (FAS), which administers the TASC program on behalf of CCC, provides grant funds as direct assistance to U.S. organizations.

In addressing sanitary and phytosanitary trade barriers, FAS has provided TASC funding for projects such as pre-clearance programs, export protocol and work support plans, pest and disease research, the development of pest lists, field surveys, seminars and other plant health related projects. Until the passage of the Agricultural Act of 2014 (Pub. L. 113-79), certain export barriers such as quality or packaging issues and environmental sustainability labeling requirements could not be addressed under the TASC program because, although legitimate export barriers, they did not appear to meet the requirement of being related to a sanitary or phytosanitary barrier to trade. Industry groups requested Congress amend the law to broaden the types of trade barriers eligible under TASC. Section 3205 of the Agriculture Act of 2014 amended the TASC statute by striking “related barriers to trade” and inserting “technical barriers to trade” in 7 U.S.C. 5680(b).

Notice and Comment

In general, the Administrative Procedure Act (5 U.S.C. 551 et.al) requires that a notice of proposed rulemaking be published in the Federal Register and interested persons be given an opportunity to participate in the rulemaking through submission of written data, views, or arguments with or without opportunity for oral presentation, except when the rule involves a matter relating to public property, loans, grants, benefits, or contracts. Because this rule involves grants and is a minor administrative change with no discretionary interpretation of law possible, CCC is publishing this rule without opportunity for public comment. The change will allow TASC funding of projects that address technical barriers to trade that are not related to any sanitary or phytosanitary barrier. In the past, the TASC program has been undersubscribed, while significant, but ineligible, trade barriers for specialty crops were unable to be addressed through the program. The specialty crops industry will now be able to use the program to fund a broader range of projects that all have the same underlying goal of increasing U.S. specialty crop exports. This change will increase the number of proposals that qualify for the program.

List of Subjects in 7 CFR Part 1487

Agricultural commodities, Exports, Specialty crops.

For the reasons set out in the preamble, 7 CFR part 1487 is amended as follows:

PART 1487—TECHNICAL ASSISTANCE FOR SPECIALTY CROPS

1. The authority citation for part 1487 continues to read as follows:

Authority: Sec. 3205 of Pub. L. 107-171.

2. Revise § 1487.2 to read as follows:

§ 1487.2 What is the TASC program?

Under the TASC program, CCC, an agency and instrumentality of the United States within the Department of Agriculture, provides funds to eligible organizations, on a grant basis, to implement activities that are intended to address a sanitary, phytosanitary, or technical barrier that prohibits or threatens the export of U.S. specialty crops that are currently available on a commercial basis. The TASC program is intended to benefit the represented industry rather than a specific company or brand. This program is administered by FAS.

Signed at Washington, DC, on the 22nd of April, 2014.
Bryce Quick,
Acting Administrator, Foreign Agricultural Service, and Vice President, Commodity Credit Corporation.

[FR Doc. 2014-10375 Filed 5-5-14; 8:45 am]

BILLING CODE 3410-10-P